ENVIRONMENTAL PROTECTION AGENCY

40 CFR Part 70

[FRL-6567-2]

Extension of Operating Permits Program Interim Approvals

AGENCY: Environmental Protection Agency (EPA).

ACTION: Withdrawal of direct final rule.

SUMMARY: Due to an adverse comment, EPA is withdrawing the February 14, 2000 direct final rule: “Extending Operating Permits Program Interim Approval Expiration Dates.” This rule would extend the dates by which interim approval of State or local operating permits programs will expire until June 1, 2002. The withdrawal of the rule will only affect those programs with interim approval as opposed to full approval.

DATES: The direct final rule, published on February 14, 2000 (65 FR 7290), is withdrawn as of March 29, 2000.

ADDRESSES: Docket No. A-93-50 containing supporting information used in the development of this notice is available for public inspection and copying between 8 a.m. and 5:30 p.m., Monday through Friday, excluding holidays. The docket is located in EPA's Air and Radiation Docket and Information Center, Waterside Mall, Room M-1500, 401 M Street, SW, Washington, DC 20460, or by calling (202) 260-7548. A reasonable fee may be charged for copying docket materials.

FOR FURTHER INFORMATION CONTACT: Mr. Roger Powell at (919) 541-5331, Information Transfer and Program Integration Division (MD-12), Environmental Protection Agency, Research Triangle Park, North Carolina 27711, electronic mail address: powell.roger@epa.gov.

SUPPLEMENTARY INFORMATION: On February 14, 2000, EPA published a direct final rule (65 FR 7290) and a parallel proposal (65 FR 7333) to amend Appendix A of the 40 CFR part 70 operating permits regulations. This amendment would extend until June 1, 2002 the expiration dates of all interim approvals of State or local operating permits programs. The purpose of this action was to allow State and local permitting authorities to combine the operating permits program revisions necessary to correct interim approval deficiencies with program revisions necessary to implement the revisions to the part 70 regulations that are now anticipated to be promulgated in late 2001. This action would allow the permitting authorities to preserve resources by preparing and submitting to EPA only one program revision instead of two.

The EPA stated in the direct final rule (65 FR 7291, February 14, 2000) that if relevant, adverse comments were received by March 15, 2000, EPA would publish a notice to withdraw the direct final rule before its effective date of May 30, 2000. The EPA received an adverse comment on the direct final rule and, therefore, is withdrawing the direct final rulemaking action. The adverse comment stated that the action was contrary to the express terms of the Clean Air Act. The EPA will address this comment on the withdrawn amendment in the subsequent final action on the proposed amendment.

Dated: March 21, 2000.
Robert Perciasepe,
Assistant Administrator for Air and Radiation.

[FR Doc. 00-7735 Filed 3-28-00; 8:45 am]

BILLING CODE 6560-50-P